DEPARTMENT OF DEFENSE

Office of the Secretary

[Transmittal Nos. 13-50]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-50 with attached transmittal, policy justification, and Sensitivity of Technology.

Dated: August 18, 2014.
Aaron Siegel,
Alternate OSD Federal Register Liaison Officer, Department of Defense.

Transmittal No. 13-50

Notice of Proposed Issuance of Letter of Offer Pursuant to Section 36(b)(1) of the Arms Export Control Act, as amended

(i) Prospective Purchaser: Turkey

(ii) Total Estimated Value:

Major Defense Equipment * | $290 million
Other | $ 30 million
TOTAL | $320 million

(iii) Description and Quantity or Quantities of Articles or Services under Consideration for Purchase: 145 AIM-120C-7 Advanced Medium Range Air-to-Air Missiles (AMRAAM), 10 missile guidance sections, and 40 LAU-129 launchers, containers, support equipment, spare and repair parts, integration activities, publications and technical documentation, test equipment, personnel training and training equipment, U.S. Government and contractor logistics, engineering and technical support, and other related elements or logistics and program support.

(iv) Military Department: Air Force (YAE)

(v) Prior Related Cases, if any: FMS case YAC-$75M-30Jul09

(vi) Sales Commission, Fee, etc., Paid, Offered, or Agreed to be Paid: None

(vii) Sensitivity of Technology Contained in the Defense Article or Defense Services Proposed to be Sold: See Attached Annex

(viii) Date Report Delivered to Congress: 11 Aug 14

* As defined in Section 47(6) of the Arms Export Control Act.

POLICY JUSTIFICATION

Turkey—AIM-120C-7 AMRAAM Missiles

The Government of Turkey has requested a possible sale of 145 AIM-120C-7 Advanced Medium Range Air-to-Air Missiles (AMRAAM), 10 missile guidance sections, and 40 LAU-129 launchers, containers, support equipment, spare and repair parts, integration activities, publications and technical documentation, test equipment, personnel training and training equipment, U.S. Government and contractor logistics, engineering and technical support, and other related elements or logistics and program support. The estimated cost is $320 million.

Turkey is a partner of the United States in ensuring peace and stability in the region. It is vital to the U.S. national interest to assist our NATO ally in developing and maintaining a strong and ready self-defense. This proposed sale is consistent with those objectives.

The Turkish Air Force (TAF) intends to obtain these missiles to modernize its inventory, which will support its own air defense needs and improve its interoperability with the U.S. and other NATO allies. These missiles will be used on the TAF's F-16 aircraft (and eventually their F-35 aircraft) and will maintain the TAF's air-to-air capability to defend its extensive coastline and borders against future threats. Turkey will have no difficulty absorbing these additional missiles into its armed forces.

The proposed sale of this equipment and support will not alter the basic military balance in the region.

The principal contractor will be Raytheon Corporation in Tucson, Arizona. There are no known offset agreements proposed in connection with this potential sale.

Implementation of this proposed sale will require multiple trips to Turkey involving U.S. Government and contractor representatives for technical reviews/support, program management, and training. U.S. contractor representatives will be required in Turkey for integration, testing, and training. The number and duration are unknown and will be determined during contract negotiations.

There will be no adverse impact on U.S. defense readiness as a result of this proposed sale.

Transmittal No. 13-50

Notice of Proposed Issuance of Letter of Offer Pursuant to Section 36(b)(1) of the Arms Export Control Act

Annex Item No. vii

(vii) Sensitivity of Technology

1. The AIM-120C-7 Advanced Medium Range Air-to-Air Missile (AMRAAM) is a Beyond Visual Range weapon designed to engage an enemy well before the pilot can see it. It improves the aerial capabilities of U.S. and allied aircraft to meet the threat of enemy air-to-air weapons. The AIM-120C-7 AMRAAM hardware, including the missile guidance section, is classified Confidential. The AMRAAM is an active radar-guided missile comprised of four sections: propulsion, control/electronics, fragmentation warhead, and guidance contained in a lightweight aluminum structure. The AMRAAM major components and subsystems range from Unclassified to Secret; and technical data and other documentation are classified up to Secret.

2. If a technologically advanced adversary were to obtain knowledge of the specific hardware and software elements, the information could be used to develop countermeasures that might reduce weapon system effectiveness or be used in the development of a system with similar or advanced capabilities.

[FR Doc. 2014-19892 Filed 8-21-14; 8:45 am]

BILLING CODE 5001-06-P